DEPARTMENT OF HEALTH AND HUMAN SERVICES

Administration for Community Living

Agency Information Collection Activities; Proposed Collection; Public Comment Request; Revision of a Currently Approved Information Collection (ICR-Rev); Title III Supplemental Form to the Financial Status Report (SF-425)

AGENCY: Administration for Community Living, HHS.

ACTION: Notice.

SUMMARY: The Administration for Community Living (ACL) is announcing an opportunity for the public to comment on the proposed collection of certain information by the agency. Under the Paperwork Reduction Act of 1995 (the PRA), Federal agencies are required to publish a notice in the Federal Register concerning each proposed collection of information, including each proposed extension of an existing collection of information, and to allow 60 days for public comment in response to the proposed action. This notice solicits comments on a proposed revision of an existing data collection regarding the information collection requirements relating to the Title III Supplemental Form to the Financial Status Report for all ACL/AoA Title III Grantees.

DATES: Submit written or electronic comments on the collection of information by August 21, 2017.

ADDRESSES: Submit electronic comments on the collection of information to: jesse.more@acl.hhs.gov. Submit written comments on the collection of information to the U.S. Department of Health and Human Services, Administration for Community Living, Washington, DC 20201, Attention: Jesse E. Moore, Jr.

FOR FURTHER INFORMATION CONTACT: Jesse E. Moore, Jr., Aging Services Program Specialist, Administration for Community Living, Washington, DC, 20201, 202-795-7578.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60 day notice in the Federal Register concerning each proposed collection of information, including each proposed extension or update of an existing collection of information, before submitting the collection to OMB for approval. To comply with this requirement, ACL is publishing the notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

Purpose

The Title III Supplemental Form to the Financial Status Report (SF-425) is used by ACL/AoA for all grantees to obtain a more detailed understanding of how projects funded under Title III of the Older Americans Act (OAA) of 1965, as amended, are being administered, and to ensure compliance with legislative requirements, pertinent Federal regulations and other applicable instructions and guidelines issued by the ACL. The level of data detail necessary is not available through the Federal Financial Status Report (SF-425) form. The Title III Supplemental Form provides necessary details on non-federal required match, administration expenditures, Older Relative Caregivers expenditures, and Long Term Care Ombudsman expenditures.

In addition to renewing OMB approval of this data collection, minor changes are being proposed to it to reflect changes in statutory language that occurred as a result of the 2016 reauthorization of the OAA. Specifically, the term “Grandparents Only” has been changed to “Older Relative Caregivers,” the new term in the OAA that describes this population of eligible service recipients. Similarly, the accompanying instructions for completing the Title III Supplemental Form to the Financial Status Report were also modified to include this same language. References in the Code of Federal Regulation (CFR) have been updated addressing financial reporting requirements and non-substantive technical edits have been made to the instructions.

Data Burden

ACL estimates the burden of this collection of information as follows: 56 State Units on Aging (SUA) respond semi-annually which should have an average estimated burden of 2 hours per grantee for a total of 112 hours per submission.

The proposed data collection tool may be found on the ACL Web site for review at: https://www.acl.gov/sites/default/files/about-acl/2017-06/ACL%20Title%20III%20Supplemental%20Form%20and%20Instructions%202017.pdf.

Respondent/data collection activity | Number of respondents | Responses per respondent | Hours per response | Total annual burden hours
Title III Supplemental Form to the Financial Status Report | 56 | 2/yr | 2 | 224
Total | 56 | 2/yr | 2 | 224

Dated: June 13, 2017.
Daniel P. Berger,
Acting Administrator and Assistant Secretary for Aging.

[FR Doc. 2017-12755 Filed 6-19-17; 8:45 am]

BILLING CODE 4154-01-P